DEPARTMENT OF ENERGY

Federal Energy Regulatory Commission

[Project No. 12555-004]

Mahoning Creek Hydroelectric Company, LLC; Notice of Application Accepted for Filing, Soliciting Motions To Intervene and Protests, Ready for Environmental Analysis, and Soliciting Comments, Recommendations, Preliminary Terms and Conditions, and Preliminary Fishway Prescriptions

September 3, 2009.

Take notice that the following hydroelectric application has been filed with the Commission and is available for public inspection.

a. Type of Application: Original Major License.

b. Project No.: 12555-004.

c. Date filed: July 27, 2009.

d. Applicant: Mahoning Creek Hydroelectric Company, LLC.

e. Name of Project: Mahoning Creek Hydroelectric Project.

f. Location: On Mahoning Creek in Armstrong County, Pennsylvania. The proposed project would occupy Federal land managed by the U.S. Army Corps of Engineers.

g. Filed Pursuant to: Federal Power Act 16 U.S.C. 791 (a)-825(r).

h. Applicant Contact: Clifford Phillips, Vice President, Mahoning Creek Hydroelectric Company LLC, 150 North Miller Road, Suite 450 C, Fairlawn, OH 44333 (330) 869-8451.

i. FERC Contact: Tom Dean, (202) 502-6041.

j. The deadline for filing motions to intervene, protests, comments, recommendations, preliminary terms and conditions, and preliminary fishway prescriptions is 60 days from the issuance of this notice; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's Web site (http://www.ferc.gov) under the “e-Filing” link. For a simpler method of submitting text-only comments, click on “Quick Comment.”

k. This application has been accepted for filing and is ready for environmental analysis.

l. The proposed Mahoning Creek Project would be located at the U.S. Army Corps of Engineers' (Corps) Mahoning Creek dam and would consist of: (1) A new 50-foot-high intake structure attached to the upstream face of the dam, equipped with removable trashracks, dewatering bulkhead panels, and a vertical slide gate; (2) a new lining on the existing (currently plugged), 108-inch-diameter conduit through dam monolith 15; (3) a new 1,090-foot-long, 120-inch-diameter penstock on the left (south) bank, bifurcating into two new 110-foot-long, 96-inch-diameter penstocks; (4) a new powerhouse located approximately 100 feet downstream of an existing stilling basin weir containing two new Kaplan turbine generator units with a total installed capacity of 6.0 MW; (5) a new 40-foot-wide, 150-foot-long, 10-foot-deep tailrace; (6) a new 2.2-mile-long, 25-kilovolt transmission line; (7) a new 100-foot-long bridge spanning a small stream to the entrance of a refurbished 0.5-mile-long access road; and (8) appurtenant facilities. The project would have an estimated annual generation of 20,000 megawatt-hours.

The project would operate using flows released by the Corps in accordance with the current dam operation as set by the Corps.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via e-mail of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must: (1) Bear in all capital letters the title “PROTEST”, “MOTION TO INTERVENE”, “COMMENTS”, “REPLY COMMENTS”, “RECOMMENDATIONS”, “PRELIMINARY TERMS AND CONDITIONS”, or “PRELIMINARY FISHWAY PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following Hydro Licensing Schedule. Revisions to the schedule may be made as appropriate.

Milestone | Target date
Notice of availability of the EA | March 1, 2010.
Filing comments on EA | March 31, 2010.
Filing modified mandatory prescriptions or terms and conditions | May 30, 2010.

p. Final amendments to the application must be filed with the Commission no later than 30 days from the issuance date of this notice.

q. A license applicant must file no later than 60 days following the date of issuance of the notice of acceptance and ready for environmental analysis provided for in sections 5.22 and 5.23: (1) A copy of the water quality certification; (2) a copy of the request for certification, including proof of the date on which the certifying agency received the request; or (3) evidence of waiver of water quality certification.

Kimberly D. Bose,
Secretary.

[FR Doc. E9-21867 Filed 9-10-09; 8:45 am]

BILLING CODE 6717-01-P